SECURITIES AND EXCHANGE COMMISSION

[File No. 500-1]

In the Matter of DTVN Holdings, Inc., Employee Solutions, Inc., Falcon Natural Gas Corp., Internet Commerce & Communications, Inc., Osage Systems Group, Inc., Payless Cashways, Inc., PC Service Source, Inc., Play by Play Toys & Novelties, Inc., Powerbrief, Inc., Southern Energy Company, Inc., Strategia Corp. (n/k/a Catthai Corp.), and TTI Industries, Inc.; Order of Suspension of Trading

September 24, 2009.

It appears to the Securities and Exchange Commission that there is a lack of current and accurate information concerning the securities of DTVN Holdings, Inc. because it has not filed any periodic reports since the period ended June 30, 2002.

It appears to the Securities and Exchange Commission that there is a lack of current and accurate information concerning the securities of Employee Solutions, Inc. because it has not filed any periodic reports since the period ended September 30, 2000.

It appears to the Securities and Exchange Commission that there is a lack of current and accurate information concerning the securities of Falcon Natural Gas Corp. because it has not filed any periodic reports since the period ended September 30, 2006.

It appears to the Securities and Exchange Commission that there is a lack of current and accurate information concerning the securities of Internet Commerce & Communications, Inc. because it has not filed any periodic reports since the period ended June 30, 2001.

It appears to the Securities and Exchange Commission that there is a lack of current and accurate information concerning the securities of Osage Systems Group, Inc. because it has not filed any periodic reports since the period ended September 30, 2000.

It appears to the Securities and Exchange Commission that there is a lack of current and accurate information concerning the securities of Payless Cashways, Inc. because it has not filed any periodic reports since the period ended May 26, 2001.

It appears to the Securities and Exchange Commission that there is a lack of current and accurate information concerning the securities of PC Service Source, Inc. because it has not filed any periodic reports since the period ended March 31, 2000.

It appears to the Securities and Exchange Commission that there is a lack of current and accurate information concerning the securities of Play by Play Toys & Novelties, Inc. because it has not filed any periodic reports since the period ended April 30, 2001.

It appears to the Securities and Exchange Commission that there is a lack of current and accurate information concerning the securities of Powerbrief, Inc. because it has not filed any periodic reports since the period ended June 30, 2001.

It appears to the Securities and Exchange Commission that there is a lack of current and accurate information concerning the securities of Southern Energy Company, Inc. because it has not filed any periodic reports for the period ended March 31, 1999 through the period ended September 30, 2008, or for the period ended June 30, 2009.

It appears to the Securities and Exchange Commission that there is a lack of current and accurate information concerning the securities of Strategia Corp. (n/k/a Catthai Corp.) because it has not filed any periodic reports since the period ended September 30, 2000.

It appears to the Securities and Exchange Commission that there is a lack of current and accurate information concerning the securities of TTI Industries, Inc. because it has not filed any periodic reports since the period ended February 29, 2000.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 24, 2009, through 11:59 p.m. EDT on October 7, 2009.

By the Commission.
Florence E. Harmon,
Deputy Secretary.

[FR Doc. E9-23422 Filed 9-24-09; 11:15 am]

BILLING CODE 8010-01-P